DEPARTMENT OF THE INTERIOR

Bureau of Indian Affairs

Notice of Fund Availability (NOFA)

AGENCY: Bureau of Indian Affairs, Interior.

ACTION: Notice of fund availability—tribal courts and Courts of Indian Offenses.

SUMMARY: The Bureau of Indian Affairs (BIA) is announcing that $1.5 million is available for funding to tribal courts (including CFR courts) that assume responsibility of adjudicating matters under 25 CFR part 115. Under part 115, tribal courts are responsible for appointing guardians, determining competency, awarding child support from Indian Individual Money (IIM) accounts, determining paternity, sanctioning adoptions, marriages, and divorces, making presumptions of death, and adjudicating claims involving trust assets. Funds will be awarded under the discretionary authority of section 103 of Public Law 93-638.

DATES: Applications are due by March 6, 2002.

ADDRESSES: Send applications to Ralph Gonzales, Bureau of Indian Affairs, Office of Tribal Services, Branch of Judicial Services, MS Room 4660-MIB, 1849 C Street, NW, Washington, DC 20240; Fax No. (202) 208-5113.

FOR FURTHER INFORMATION CONTACT: Ralph Gonzales, (202) 208-4401.

SUPPLEMENTARY INFORMATION: The authority to issue this notice is vested in the Secretary of the Interior by 5 U.S.C. 301 and 25 U.S.C. 2 and 9, 25 U.S.C. 13, which authorizes appropriations for “Indian judges” (See Tillett v. Hodel, 730 F.Supp. 381 (W.D. Okla. 1990), aff'd 931 F.2d 636 (10th Cir. 1991) United States v. Clapox, 13 Sawy. 349, 35 F. 575 (D.Ore. 1888)), and is in the exercise of authority delegated to the Assistant Secretary—Indian Affairs by 209 Departmental Manual 8.1.

There are approximately 225 tribes that contract or compact with the Bureau of Indian Affairs to perform the Secretary's adjudicatory function and 23 Courts of Indian Offenses (also known as CFR courts). It is expected that 45 tribal entities will choose to assume this responsibility. The $1.5 million is earmarked to assist tribal courts to perform the increased responsibilities required by 25 CFR part 115. These funds will be distributed on the following formula:

Number of cases times “X”.

“X” equals $1.5 million divided by the Total of Cases that will be disposed of reported by Qualified Applicants.

Formula Example: The most recent data available shows there is a total universe of 33,217 Indian minor cases, and 1,667 non-compos mentis cases in the IIM system. The Office of Tribal Services, Division of Social Services, estimates that about 25 percent of these cases will require adjudication by a court of competent jurisdiction. Example: If it is expected there will be approximately 8,721 cases which require adjudication during FY 2002, applying the formula $172 per case is the result ($1.5 million divided by 8,721 = $172). If, for example, your court is expected to handle 35 cases in FY 2002, it is eligible to receive $6,020 ($172 × 35 = $6,020). This example assumes that all cases requiring adjudication will be disposed of. For FY 2002, only cases that a tribal court will “dispose of” will be considered in the case count for funding purposes.

Program Description

Qualified tribal applicants that assume responsibility over Supervised IIM Accounts under 25 CFR part 115 are eligible to receive funding under this NOFA. Applicants will consider the following sections of part 115 when responding to this NOFA:

115.001, 115.002, 115,100, 115.102, 115.104, 115.107, 115.400, 115.401, 115.413, 115.420, 115.421, 115.425, 115.430, 115.600, 115.601, 115.605, 115.701.

Note: An electronic copy of this document may be downloaded from the Office of the Federal Register's home page at: http://www.nara.gov/fedreg.

Tribes seeking to apply will be responsible for (1) having codes or ordinances in place, and (2) appointing guardians, determining competency, awarding child support from Indian Individual Money (IIM) accounts, determining paternity, sanctioning adoptions, marriages, and divorces, making presumptions of death, and adjudicating claims involving trust assets as prescribed in the sections cited above. Funds provided under this NOFA are specifically made available to tribal courts that assume additional responsibility under 25 CFR part 115 to adjudicate Supervised IIM Accounts and are not intended to be used as general operating funds for a judiciary.

Definitions

Qualified Applicant. A qualified applicant is a tribal government submitting an application for funding for a tribal court meeting the following threshold requirements:

(1) The tribal government has enacted the codes necessary for the tribal justice system to carry out its responsibility under 25 CFR part 115.

(2) The tribal court has adopted and made accessible the court rules setting forth the procedures to adjudicate these cases.

(3) Tribal court personnel have been trained to process these cases and the court is staffed to fulfill the tribal legislative mandate.

(4) The tribal justice system is one that serves as the judicial component of a tribal government which is federally recognized by the United States Government.

Case Disposed Of. A case in which a final decision is rendered by the court even though the court may retain jurisdiction to subsequently review the matter on submission of additional relevant facts by an interested party.

Tribal Courts. As used in this NOFA, reference to tribal courts includes Courts of Indian Offenses (CFR courts), established by the Department of the Interior under Title 25 part 11 (2001 edition) of the Code of Federal Regulations.

Application Process: (1) The tribal government will provide a certification as a response to Item #11 in SF-424 that the threshold requirements are met. (See form attached.)

(2) An SF-424 will be submitted with the number of Supervised IIM Accounts that will be disposed of during FY 2002 in Item #11.

(3) Funds will be awarded under the discretionary authority of section 103 of Public Law 93-638 (25 U.S.C. 450h).

Application Form

Applications must be submitted on the form entitled “Application For Federal Assistance,” identified with the Office of Management and Budget (OMB) Approval No. 0348-0043 (Standard Form 424, Rev. 7-97). The form is attached to this notice. The form may also be downloaded from the Internet at http://www.gsa.gov.

Deadline

Mail applications to Ralph Gonzales, Bureau of Indian Affairs, Office of Tribal Services, Branch of Judicial Services, MS Room 4660-MIB, 1849 C Street, NW, Washington, DC 20240; or fax to (202) 208-5113.

Applications are due 30 calendar days after the publication date of this NOFA and must be postmarked by midnight on the deadline date. Applications will be considered as meeting the deadline if they are received on or before the deadline date; or, sent on or before the deadline date. Applicants may hand deliver applications to the address indicated above by close-of-business (5 p.m. EST) on the deadline date. Applications will be accepted by facsimile until the close-of-business (5 p.m. EST) on the deadline date, provided the original application is postmarked by midnight the day after the due date. No applications can be transmitted by e-mail (electronic mail). Applicants are responsible for ensuring proper delivery of the application and are encouraged to contact Ralph Gonzales at (202) 208-4401 to confirm its receipt.

Dated: January 22, 2002.
Neal A. McCaleb,
Assistant Secretary—Indian Affairs.

BILLING CODE 4310-4J-P

[FR Doc. 02-2592 Filed 2-1-02; 8:45 am]

BILLING CODE 4310-4J-C